DEPARTMENT OF COMMERCE

National Oceanic and Atmospheric Administration

50 CFR Part 648

[Docket No. 140902739-5224-02]

RIN 0648-BE49

Fisheries of the Northeastern United States; Atlantic Mackerel, Squid, and Butterfish Fisheries; Specifications and Management Measures

AGENCY: National Marine Fisheries Service (NMFS), National Oceanic and Atmospheric Administration (NOAA), Commerce.

ACTION: Final rule.

SUMMARY: NMFS is implementing 2015 specifications and management measures for Atlantic mackerel, 2015-2017 specifications for Illex squid, 2015-2017 specifications for longfin squid, and 2015-2017 specifications for butterfish. This action also establishes a simplified butterfish fishery closure mechanism. These specifications set catch levels to prevent overfishing and allocate catch to commercial and recreational fisheries. Additionally, the simplified butterfish closure mechanism makes operation of the fishery more efficient and consistent with the higher catch limit for butterfish. These specifications and management measures are consistent with the Atlantic Mackerel, Squid, and Butterfish Fishery Management Plan and the recommendations of the Mid-Atlantic Fishery Management Council.

DATES: Effective April 20, 2015.

ADDRESSES: Copies of the specifications document, including the Environmental Assessment and Initial Regulatory Flexibility Analysis (EA/IRFA) and other supporting documents for the specifications, are available from Dr. Christopher Moore, Executive Director, Mid-Atlantic Fishery Management Council, Suite 201, 800 N. State Street, Dover, DE 19901. The specifications document is also accessible via the Internet at: http://www.greateratlantic.fisheries.noaa.gov/.

FOR FURTHER INFORMATION CONTACT: Carly Bari, Fishery Policy Analyst, (978) 281-9224.

SUPPLEMENTARY INFORMATION:

Background

Specifications, as referred to in this rule, are the combined suite of commercial and recreational catch levels established for one or more fishing years. The specifications process also allows for the modification of a select number of management measures, such as closure thresholds, gear restrictions, and possession limits. The Council's process for establishing specifications relies on provisions within the Atlantic Mackerel, Squid, and Butterfish Fishery Management Plan (FMP) and its implementing regulations, as well as requirements established by the Magnuson-Stevens Fishery Conservation and Management Act. Specifically, section 302(g)(1)(B) of the Magnuson-Stevens Act states that the Scientific and Statistical Committee (SSC) for each Regional Fishery Management Council shall provide its Council ongoing scientific advice for fishery management decisions, including recommendations for acceptable biological catch (ABC), preventing overfishing, maximum sustainable yield, and achieving rebuilding targets. The ABC is a level of catch that accounts for the scientific uncertainty in the estimate of the stock's defined overfishing level (OFL).

The Council's SSC met on May 7 and 8, 2014, to recommend ABCs for the 2015 Atlantic mackerel specifications, and the 2015-2017 butterfish, Illex squid, and longfin squid specifications. On November 14, 2014, NMFS published a proposed rule for fishing year 2015 for the mackerel, squid, and butterfish fishery specifications and management measures (79 FR 68202); the public comment period for the proposed rule ended December 15, 2014.

The Atlantic Mackerel, Squid, and Butterfish FMP regulations require the specification of annual catch limits (ACL) and accountability measures (AM) for mackerel and butterfish (both squid species are exempt from the ACL/AM requirements because they have a life cycle of less than 1 year). In addition, the regulations require the specification of domestic annual harvest (DAH), domestic annual processing (DAP), and total allowable level of foreign fishing (TALFF), along with joint venture processing for (JVP) commercial and recreational annual catch totals (ACT) for mackerel, the butterfish mortality cap in the longfin squid fishery, and initial optimum yield (IOY) for both squid species. Details concerning the Council's development of these measures were presented in the preamble of the proposed rule and are not repeated here.

In addition to the specifications, this action simplifies the management measure for the directed buttefish fishery and changes the regulations in regard to possession limits.

Final 2015 Specifications for Atlantic Mackerel

Table 1—2015 Specifications in Metric Tons (mt) for Atlantic Mackerel
Overfishing limit (OFL) | Unknown
ABC | 40,165
ACL | 25,039
Commercial ACT | 21,138
Recreational ACT/Recreational Harvest Limit (RHL) | 1,397
DAH/DAP | 20,872
JVP | 0
TALFF | 0

The proposed rule for this action included the details of how the Council derived its recommended mackerel specifications, and NMFS is not including these details in this final rule. This action establishes the mackerel stock-wide ABC of 40,165 mt and the U.S. ABC of 25,039 mt, based on the formula U.S. ABC = Stock-wide ABC−C, where C is the estimated catch of mackerel in Canadian waters (15,126 mt) for the 2014 fishing year. The ACL is set equal to U.S. ABC at 25,039 mt, the commercial ACT is set at 21,138 mt, the DAH and DAP are both set at 20,872 mt, and the recreational ACT is set at 1,397 mt.

The recreational fishery allocation for mackerel is 1,552 mt (6.2 percent of the U.S. ABC). The recreational ACT of 1,397 mt (90 percent of 1,552 mt) accounts for uncertainty in recreational catch and discard estimates. The Recreational ACT is equal to the Recreational Harvest Limit (RHL), which is the effective cap on recreational catch.

The commercial fishery allocation for mackerel is 23,487 mt (93.8 percent of the U.S. ABC, the portion of the ACL that was not allocated to the recreational fishery). The commercial ACT of 21,138 mt (90 percent of 23,487 mt) compensates for management uncertainty in estimated Canadian landings, uncertainty in discard estimates, and possible misreporting of mackerel catch. The commercial ACT is further reduced by a discard rate of 1.26 percent to arrive at the DAH of 20,872 mt. The DAH is the effective cap on commercial catch.

Additionally, this action maintains JVP at zero (the most recent allocation was 5,000 mt of JVP in 2004). In the past, JVP was set greater than zero because it believed U.S. processors lacked the ability to process the total amount of mackerel that U.S. harvesters could land. However, for the past 10 years, the Council has recommended zero JVP because U.S. shoreside processing capacity for mackerel has expanded. The Council concluded that processing capacity was no longer a limiting factor relative to domestic production of mackerel.

The Magnuson-Stevens Act provides that the specification of TALFF, if any, shall be the portion of the optimum yield (OY) of a fishery that will not be harvested by U.S. vessels. TALFF would allow foreign vessels to harvest U.S. fish and sell their product on the world market, in direct competition with U.S. industry efforts to expand exports. While a surplus existed between ABC and the mackerel fleet's harvesting capacity for many years, that surplus has disappeared due to downward adjustments of the specifications in recent years. Based on analysis of the global mackerel market and possible increases in U.S. production levels, the Council concluded that specifying a DAH/DAP that would result in zero TALFF would yield positive social and economic benefits to both U.S. harvesters and processors, and to the Nation. For these reasons, consistent with the Council's recommendation, the DAH is set at a level that can be fully harvested by the domestic fleet, thereby precluding the specification of a TALFF, in order to support the U.S. mackerel industry. NMFS concurs that it is reasonable to assume that in 2015 the commercial fishery has the ability to harvest 20,872 mt of mackerel.

2015 Final River Herring and Shad Catch Cap in the Mackerel Fishery

In order to limit river herring and shad catch, Amendment 14 to the FMP (February 24, 2014; 79 FR 10029) allows the Council to set a river herring and shad cap through annual specifications. For 2015 the cap is set at 89 mt initially, but if mackerel landings surpass 10,000 mt before closure, then the cap will increase to 155 mt. The 89-mt cap represents the median annual river herring and shad catch by all vessels landing over 20,000 lb (9.08 mt) of mackerel per trip from 2005-2012. These were years when the fishery caught about 13,000 mt of mackerel. The 155-mt cap is based on the median river herring and shad catch by all vessels landing over 20,000 lb (9.08 mt) of mackerel per trip from 2005-2012, adjusted to the 2015 proposed DAH (20,872 mt). The purpose of the two-tier system is to encourage the fishery to avoid river herring and shad regardless of the rate of mackerel catches. If mackerel catch is low, the 89-mt cap would encourage fishermen to avoid catching river herring and shad. If mackerel catch increases, the 155-mt cap should still allow mackerel fishing to occur as long as river herring and shad catch rates remain below the recent median. Once the mackerel fishery catches 95 percent of the river herring and shad cap, we will close the directed mackerel fishery and implement a 20,000-lb (9.08-mt) incidental catch trip limit for the remainder of the year.

2015-2017 Final Illex Specifications

Table 2—2015-2017 Specifications in Metric Ton (mt) for Illex Squid
OFL | Unknown
ABC | 24,000
Initial Optimum Yield (IOY) | 22,915
DAH/DAP | 22,915

This action establishes the Illex ABC as 24,000 mt for the 2015-2017 fishing years, subject to annual review. The ABC is reduced by the status quo discard rate of 4.52 percent, which results in an IOY, DAH, and DAP of 22,914 mt for the 2015-2017 fishing years. These levels are the same as was specified for the Illex fishery in 2012-2014. The FMP does not authorize the specification of JVP and TALFF for the Illex fishery because of the domestic fishing industry's capacity to harvest and to process the OY from this fishery.

2015-2017 Final Longfin Squid Specifications

Table 3—2015-2017 Specifications in Metric Tons (mt) for Longfin Squid
OFL | Unknown
ABC | 23,400
IOY | 22,445
DAH/DAP | 22,445

This action establishes the longfin squid ABC of 23,400 mt for the 2015-2017 fishing years, subject to annual review. The ABC is reduced by the status quo discard rate of 4.08 percent, which results in an IOY, DAH, and DAP of 22,445 mt for the 2015-2017 fishing years. The FMP does not authorize the specification of JVP and TALFF for the longfin squid fishery because of the domestic industry's capacity to harvest and process the OY for this fishery.

Distribution of the Longfin DAH

As was done in all fishing years since 2007, the 2015-2017 longfin DAH is allocated into trimesters, according to percentages specified in the FMP, as follows:

Table 4—2015-2017 Trimester Allocation of Longfin Quota
Trimester | Percent | Metric tons
I (Jan-Apr) | 43 | 9,651
II (May-Aug) | 17 | 3,816
III (Sep-Dec) | 40 | 8,978
Total | 100 | 22,445

2015-2017 Final Butterfish Specifications

Table 5—2015-2017 Specifications in Metric Tons (mt) for Butterfish
| 2015 | 2016 | 2017
OFL | 41,092 | N/A | N/A
ABC | 33,278 | 31,412 | 30,922
Commercial ACT (ABC minus 10-percent buffer) | 29,950 | 28,271 | 27,830
DAH (ACT minus butterfish cap and discards) | 22,530 | 21,043 | 20,652
Directed Fishery closure limit (DAH minus 1,411 mt buffer) | 21,119 | 19,631 | 19,241
Butterfish Cap (in the longfin squid fishery) | 3,884 | 3,884 | 3,884

This action establishes the butterfish ABC at 33,278 mt for 2015 (increased dramatically from 9,100 mt in 2014) to account for the increased stock size and estimated expected fishing mortality in 2014. The butterfish ABC is set at 31,412 mt in 2016, and 30,933 mt in 2017 to account for fishing mortality in 2015 and 2016, respectively, with a 60-percent probability of not overfishing as required by the Council risk policy. The butterfish ACL is equal to the ABC, and establishing a 10-percent buffer between ACL and ACT for management uncertainty, results in an ACT of 29,950 mt in 2015, 28,271 mt in 2016, and 27,830 mt in 2017.

The butterfish cap is set at 3,884 mt for the 2015-2017 fishing years, which is the same level as 2014. This cap has not constrained the longfin fishery and reserves most of the available butterfish quota for the directed butterfish fishery. The DAH is set at 22,530 mt in 2015, 21,042 mt in 2016, and 20,652 in 2017, accounting for the butterfish cap and discards in non-longfin fisheries). Butterfish TALFF is only specified to address bycatch by foreign fleets targeting mackerel TALFF. Because there is no mackerel TALFF, butterfish TALFF would also be set at zero.

The 2015 butterfish mortality cap is allocated by Trimester, as follows:

Table 6—Trimester Allocation of Butterfish Mortality Cap on the Longfin Squid Fishery for 2015
Trimester | Percent | Metric tons
I (Jan-Apr) | 43 | 1,670
II (May-Aug) | 17 | 660
III (Sep-Dec) | 40 | 1,554
Total | 100 | 3,844

Butterfish Directed Fishery Closure Mechanism

This action simplifies butterfish directed fishery closure mechanism to account for the dramatic increase in butterfish availability and increased DAH. Instead of the three-phased butterfish management season, this rule will allow vessels issued longfin squid/butterfish moratorium permits (as specified at § 648.4(a)(5)(i)) to land unlimited amounts of butterfish if using mesh greater than or equal to 3 inches (76 mm) until projected landings reach within 1,411 mt of a given year's DAH. Once landings are within 1,411 mt of the DAH, NMFS will implement a 5,000-lb (2.27-mt) trip limit. Vessels issued a longfin squid/butterfish moratorium permit fishing with mesh less than 3 inches (76 mm) are currently prohibited from landing more than 2,500 lb (1.13 mt) of butterfish per trip, and there are no changes for those vessels. The Council identified 1,411 mt as the amount that would allow some landings under a 5,000-lb (2.27-mt) trip limit without reaching the DAH. In the unlikely event that projected landings reach the annual DAH, then the trip limit will be reduced to 600 lb (0.27 mt) to prevent an overage of the ACT.

Corrections

This final rule also contains a minor adjustment to an existing regulation. The vessel monitoring system (VMS) power-down exemption for vessels that will be at the dock for more than 30 consecutive days, at § 648.10(c)(2)(i)(B), currently lists specific eligible permits. The regulatory text is simplified to clarify that the exemption is available to all permits that are required to have VMS.

Comments and Responses

NMFS received seven comments in response to the proposed rule for this action. Two were from industry groups, including Garden State Seafood Association (GSSA) (a New Jersey fishing industry advocacy group), and The Town Dock (a Rhode Island fishing company and seafood dealer). One comment was from the Herring Alliance, an environmental group, and the remaining four comments were from individuals. Two of the four comments from individuals were unrelated to the action and are not included in this rule, and NMFS provides no response.

Comment 1: GSSA commented in support of the Council's recommended specifications and management measure with the exception of the butterfish quota reductions in 2016 and 2017. GSSA would like the butterfish quota to remain at the 2015 level for the 2016 and 2017 fishing years.

Response: NMFS is implementing the specifications as proposed. The SSC determined the 2015-2017 ABCs based on projections from the recently accepted 2014 butterfish assessment (SAW-SARC 58), which concluded that the stock was above target stock size and experiencing low fishing mortality. The ABC projections work in a stepwise fashion and assume average recruitment (fish entering the population). Assuming that the full ABC is caught each year and applying a fishing mortality rate that should result in 60-percent probability of not overfishing, the result is a slightly declining ABC each year from 2015 to 2017. Since the stock is estimated to be above its target, catches fall slightly over time, but as long as the stock remains at or above its target, ABCs would not be expected to fall below 29,000 mt (if the same approach to addressing scientific uncertainty is used and average recruitment occurs).

Comment 2: The Town Dock and one individual commented that they would like to see an increase in the Trimester II quota for longfin squid. Both commenters would like to see an increase in the rollover quota from Trimester I to Trimester II to prevent the closure of the longfin fishery during Trimester II.

Response: NMFS has forwarded these comments to the Council for its consideration. NMFS does not have the authority to make this change, and the Council did not consider changes to the Trimester allocations for the 2015-2017 specifications, but may in future actions.

Comment 3: The Herring Alliance suggested that there should be an incremental increase in butterfish quota starting lower than the proposed 2015 quota and increasing the quota in 2016 and 2017.

Response: The butterfish ABCs for 2015-2017 were recommended by the SSC based on the best available science including the recently accepted 2014 butterfish assessment (SAW-SARC 58), which concluded that the stock was above the target stock size and experiencing low fishing mortality.

Comment 4: The Herring Alliance supports the recommended 2015 mackerel ABC, but suggested that NMFS revisit the ABC within one year after a stock update.

Response: NMFS is implementing the specifications as proposed. There is not a scheduled stock update for 2016, but the SSC hopes to extend analysis that considers the performance of data poor approaches to ABC determination to include highly periodic catch time series. Based on the results of these simulations, the SSC expects to produce a revised 2016 ABC for this stock.

Comment 5: The Herring Alliance supports the lower river herring and shad cap of 89 mt, but does not support the increased cap option of 155 mt.

Response: The two-phased approach for the river herring and shad cap creates a strong incentive for the mackerel fishery to avoid river herring and shad when mackerel catch are low or high. The 155 mt river herring and shad cap will allow the fishery to catch the proposed mackerel quota in 2015 if the ratio of river herring and shad catch to total catch is relatively low. If the fishery does not maintain a low ratio of river herring and shad catch, then the fishery will be closed once the 89-mt cap is caught.

Comment 6: One individual commented that all of the quotas should be reduced by 50 percent.

Response: The quotas established through this final rule were based on the best available science, as recommended by the SSC.

Changes From the Proposed Rule

The proposed rule presented a table for the 2015-2017 butterfish specifications (Table 5 in the proposed rule). This table incorrectly listed the DAH subtracting the 1,411-mt buffer for 2017. The correct butterfish DAH (minus the 1,411-mt buffer) for 2017 is presented in Table 5 in this final rule, and will be presented to industry in the small entity compliance guide sent to butterfish permit holders after the publication of this final rule. Additionally, a minor wording change was made to § 648.26(d) for consistency.

Classification

Pursuant to section 304(b)(1)(A) of the Magnuson-Stevens Act, the NMFS Assistant Administrator for Fisheries (AA) has determined that this final rule is consistent with the Atlantic Mackerel, Squid, and Butterfish FMP, other provisions of the Magnuson-Stevens Act, and other applicable laws.

The Council prepared an EA for the 2015-2017 specifications and management measures, and the AA concluded that there will be no significant impact on the human environment as a result of this rule. A copy of the EA is available upon request (see ADDRESSES).

This action is authorized by 50 CFR part 648 and has been determined to be not significant for purposes of Executive Order 12866.

NMFS, pursuant to section 604 of the Regulatory Flexibility Act, has prepared a FRFA, included in the preamble of this final rule, in support of the 2015-2017 specifications and management measures. The FRFA describes the economic impact that this final rule, along with other non-preferred alternatives, will have on small entities.

The FRFA incorporates the economic impacts and analysis summaries in the IRFA, a summary of the significant issues raised by the public in response to the IRFA, and NMFS's responses to those comments. A copy of the IRFA, the RIR, and the EA are available upon request (see ADDRESSES).

Statement of Need for This Action

This action establishes 2015 specifications for mackerel, and 2015-2017 specifications for butterfish, Illex squid, and longfin squid. It also modifies the river herring catch cap in the mackerel fishery and to simplify the closure mechanism in the butterfish fishery. A complete description of the reasons why this action is being considered, and the objectives of and legal basis for this action, are contained in the preamble to this rule and are not repeated here.

A Summary of the Significant Issues Raised by the Public Comments in Response to the IRFA, a Summary of the Assessment of the Agency of Such Issues, and a Statement of Any Changes Made in the Final Rule as a Result of Such Comments

None of the public comments raised issues related to the IRFA or the economic impact of the rule on affected entities.

Description and Estimate of Number of Small Entities to Which the Rule Will Apply

Based on permit data for 2013, the numbers of potential fishing vessels in the 2015 fisheries are as follows: 384 separate vessels hold Atlantic mackerel, longfin squid, Illex squid, and butterfish limited access permits, 287 entities own those vessels, and, based on current Small Business Administration (SBA) definitions, 274 are small entities. Of the 274 small entities, 29 had no revenue in 2013 and those entities with no revenue are listed as small entities for the purposes of this analysis. All of the entities that had revenue fell into the finfish or shellfish categories, and the SBA definitions for those categories for 2014 are $20.5 million for finfish fishing and $5.5 million for shellfish fishing. Many vessels participate in more than one of these fisheries; therefore, the number of permits is not additive. The only proposed alternatives that involve increased restrictions apply to mackerel limited access permits, so those numbers are listed separately (they are a subset of the above entities). This analysis found that 150 separate vessels hold Atlantic mackerel, longfin squid, Illex squid, and butterfish limited access permits, 114 entities own those vessels, and, based on current SBA definitions, 107 are small entities.

Description of Projected Reporting, Recordkeeping, and Other Compliance Requirements

There are no new reporting or record keeping requirements contained in any of the alternatives considered for this action. In addition, there are no Federal rules that duplicate, overlap, or conflict with this rule.

Description of the Steps the Agency Has Taken To Minimize the Significant Economic Impacts on Small Entities Consistent With the Stated Objectives of Applicable Statutes, Including a Statement of the Factual, Policy, and Legal Reasons for Selecting the Alternative Adopted in the Final Rule and Why Each One of the Other Significant Alternatives to the Rule Considered by the Agency Which Affect the Impact on Small Entities Was Rejected

The mackerel commercial DAH (20,872 mt) represents a reduction from status quo (2014 DAH = 33,821 mt). Despite the reduction, the DAH is above recent U.S. landings; mackerel landings for 2010-2013 averaged 5,873 mt. Thus, the reduction does not pose a constraint to vessels relative to the landings in recent years. Even though the 2015 quota is lower than the 2014 quota, it will still allow more than a tripling of catch compared to any year 2011-2013. This action establishes a Recreational ACT/RHL of 1,552 mt. Because recreational harvest from 2010-2013 averaged 850 mt, it does not appear that the allocation for the recreational fishery will constrain recreational harvest. Overall, this action is not expected to result in any reductions in revenues for vessels that participate in either the commercial or recreational mackerel fisheries.

The river herring and shad catch cap in the mackerel fishery has the potential to prevent the fishery from achieving its full mackerel quota if the river herring and shad encounter rates are high, but it is very unlikely that the fishery would close before exceeding the levels of landings experienced since 2010, when landings have been less than 11,000 mt. Based on the operation of the cap in 2014 (the first year of the cap), as long as the fishery can maintain relatively low river herring and shad catch rates, this alternative is unlikely to constrain the mackerel fishery. Examination of river herring and shad catch rates in 2011-2013 suggest that the only year that the cap would have been binding would have been 2012. In 2012, relevant trips landed 5,074 mt of mackerel, but the fishery would have closed at approximately 4,439 mt if the 2015 cap had been in place. Given the river herring and shad encounter rate in 2012, approximately 608 mt of mackerel landings would have been forgone. Using the 2013 price of mackerel, 608 mt mackerel would have amounted to $265,105 of potentially forgone ex-vessel revenues. However, based on the operation of the cap in 2014, actual river herring and shad catch rates may be lower under the cap and, therefore, the cap may not be binding.

The Illex IOY (22,915 mt) renews the status quo for three more years. Though annual Illex landings have approached this amount in some recent years (15,825 mt for 2010, 18,797 mt for 2011, 11,709 mt for 2012, and 3,835 mt for 2013), the landings were lower than the 2015-2017 levels. Thus, implementation of this action should not result in a reduction in revenue or a constraint on expansion of the fishery in 2015-2017.

The longfin squid IOY (22,445 mt) renews the status quo levels for three more years. Because longfin squid landings from 2010-2013 averaged 10,093 mt, the 2015-2017 IOY provides an opportunity to increase landings, though if recent trends of low landings continue, there may be no increase in landings despite the increase in the allocation. No reductions in revenues for the longfin squid fishery are expected as a result of this action.

The butterfish DAHs established in this action (21,119 mt in 2015, 19,631 mt in 2016, and 19,241 mt in 2017) represents a 660-percent increase over the 2014 DAH (3,200 mt). Due to market conditions, there has not been a directed butterfish fishery in recent years; therefore, recent landings have been low. The increase in the DAH has the potential to increase revenue for permitted vessels, having a positive economic impact.

This action also simplifies the closure mechanism for the butterfish fishery. This allows permitted vessels to take butterfish when they are available or when dealers may process them, and should have a positive economic impact on the fishery.

The 2015-2017 butterfish discard cap of 3,884 mt renews the status quo for three more years. The longfin squid fishery will close during Trimester I, II, or III if the butterfish discards reach the trimester allocation. If the longfin squid fishery is closed in response to butterfish catch before the entire longfin squid quota is harvested, then a loss in revenue is possible. The potential for longfin squid revenue loss is dependent upon the size of the butterfish discard cap. This cap level was in effect for the 2013 and 2014 fishing years, and did not restrict the fishery in either year. For that reason, additional revenue losses are not expected as a result of this proposed action.

List of Subjects in 50 CFR Part 648

Fisheries, Fishing, Recordkeeping and reporting requirements.

Dated: March 17, 2015.
Samuel D. Rauch III,
Deputy Assistant Administrator for Regulatory Programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.10, paragraph (c)(2)(i)(B) is revised to read as follows:

§ 648.10 VMS and DAS requirements for vessel owners/operators.

* * * * *

(c) * * *

(2) * * *

(i) * * *

(B) The vessel owner signs out of the VMS program for a minimum period of 30 consecutive days by obtaining a valid letter of exemption pursuant to paragraph (c)(2)(ii) of this section, the vessel does not engage in any fisheries or move from the dock/mooring until the VMS unit is turned back on, and the vessel complies with all conditions and requirements of said letter;

* * * * *

3. In § 648.24, paragraph (c)(1) introductory text is revised to read as follows:

§ 648.24 Fishery closures and accountability measures.

* * * * *

(c) Butterfish AMs—(1) Directed butterfish fishery closure. When butterfish catch reaches the butterfish closure threshold as determined in the annual specifications, NMFS shall implement a 5,000-lb (2.27-mt) possession limit for vessels issued a longfin squid/butterfish moratorium permit and that are fishing with a minimum mesh size of 3 inches (76 mm). When the butterfish catch is projected to reach the butterfish DAH as determined in the annual specifications, NMFS shall implement a 600-lb (0.27-mt) possession limit for all vessels issued a longfin squid/butterfish moratorium or incidental catch permit.

* * * * *

4. In § 648.26, paragraph (d) is revised to read as follows:

§ 648.26 Mackerel, squid, and butterfish possession restrictions.

* * * * *

(d) Butterfish. (1) A vessel issued a longfin squid/butterfish moratorium permit (as specified at § 648.4(a)(5)(i)) fishing with a minimum mesh size of 3 inches (76 mm) is authorized to fish for, possess, or land butterfish with no possession restriction in the EEZ per trip, and may only land butterfish once on any calendar day, which is defined as the 24-hr period beginning at 0001 hours and ending at 2400 hours, provided that directed butterfish fishery has not been closed and the reduced possession limit has not been implemented, as described in § 648.24(c)(1). When butterfish harvest is projected to reach the threshold for the butterfish fishery (as described in § 648.24(c)(1)), these vessels may not fish for, possess, or land more than 5,000 lb (2.27 mt) of butterfish per trip at any time, and may only land butterfish once on any calendar day. When butterfish harvest is projected to reach the DAH limit (as described in § 648.24(c)(1)), these vessels may not fish for, possess, or land more than 600 lb (0.27 mt) of butterfish per trip at any time, and may only land butterfish once on any calendar day.

(2) A vessel issued longfin squid/butterfish moratorium permit fishing with mesh less than 3 inches (76 mm) may not fish for, possess, or land more than 2,500 lb (1.13 mt) of butterfish per trip at any time, and may only land butterfish once on any calendar day, provided that butterfish harvest has not reached the DAH limit and the reduced possession limit has not been implemented, as described in § 648.24(c)(1). When butterfish harvest is projected to reach the DAH limit (as described in § 648.24(c)(1)), these vessels may not fish for, possess, or land more than 600 lb (0.27 mt) of butterfish per trip at any time, and may only land butterfish once on any calendar day.

(3) A vessels issued a longfin squid/butterfish incidental catch permit, regardless of mesh size used, may not fish for, possess, or land more than 600 lb (0.27 mt) of butterfish per trip at any time, and may only land butterfish once on any calendar day, which is defined as the 24-hr period beginning at 0001 hours and ending at 2400 hours.

[FR Doc. 2015-06401 Filed 3-19-15; 8:45 am]

BILLING CODE 3510-22-P